DEPARTMENT OF EDUCATION

National Advisory Committee on Institutional Quality and Integrity (NACIQI)

AGENCY: National Advisory Committee on Institutional Quality and Integrity, Office of Postsecondary Education, U.S. Department of Education.

ACTION: Revision to the agenda for the June 18-19, 2014 meeting of the National Advisory Committee on Institutional Quality and Integrity (NACIQI) meeting and a solicitation for third party comments.

SUMMARY: This meeting notice is an update to the previous notices published in the Federal Register on February 25, 2014 (79 FR 10508) and on March 31, 2014 (79 FR 18021). This notice identifies a revision to the agenda and invites written third party comment on the question “What issues are critical to consider in advancing quality assurance in higher education?”

ADDRESSES: U.S. Department of Education, Office of Postsecondary Education, 1990 K Street NW., Room 8072, Washington, DC 20006.

NACIQI'S Statutory Authority and Function: The NACIQI is established under Section 114 of the HEA of 1965, as amended, 20 U.S.C. 1011c. The NACIQI advises the Secretary of Education about:

• The establishment and enforcement of the criteria for recognition of accrediting agencies or associations under Subpart 2, Part H, Title IV, of the HEA, as amended.

• The recognition of specific accrediting agencies or associations or a specific State approval agency.

• The preparation and publication of the list of nationally recognized accrediting agencies and associations.

• The eligibility and certification process for institutions of higher education under Title IV, of the HEA, together with recommendations for improvement in such process.

• The relationship between (1) accreditation of institutions of higher education and the certification and eligibility of such institutions, and (2) State licensing responsibilities with respect to such institutions.

• Any other advisory function relating to accreditation and institutional eligibility that the Secretary may prescribe.

Meeting Agenda: The following agency, originally scheduled for a review for initial recognition, has been removed from the NACIQI review agenda and will be rescheduled at a later date:

Commission on Accreditation of Educator Preparation (CAEP). (Requested Scope: The accreditation of educator preparation programs in degree-granting institutions of higher education throughout the United States that offer certificates/licensure, or an associate's, bachelor's, master's, post-baccalaureate, and doctoral degrees including those offered via distance education.)

Submission of Written Comments: The meeting agenda will include NACIQI discussion sessions regarding the Committee's 2012 Policy Report of Recommendations on Accreditation (http://www2.ed.gov/about/bdscomm/list/naciqi-dir/2012-spring/teleconference-2012/naciqi-final-report.pdf) and/or on developing new policy recommendations to advise the Secretary in preparation for the reauthorization of the Higher Education Act (HEA). To enhance its discussions, the NACIQI invites written, third-party comment on current issues and initiatives in postsecondary education accreditation, specifically, on the question “What issues are critical to consider in advancing quality assurance in higher education?” Written comments must be received by May 30, 2014, in the accreditationcommittees@ed.gov mailbox and include the subject line “Comment: Advancing Quality Assurance in Higher Education.” The email must include the name, title, affiliation, mailing address, email address, telephone number, and Web site (if any) of the person/group making the comment. Comments (including any attachments) may not exceed four (4) 8.5″ x 11″ pages (on one side only) in either a 10 or 12 point font, and are to be submitted as a Microsoft Word document or in a medium compatible with Microsoft Word (not a PDF file) that is attached to an electronic mail message (email) or provided in the body of an email message. Comments must relate specifically to “What issues are critical to consider in advancing quality assurance in higher education?” No comments pertaining to the review of any individual accrediting or State agency under review will be accepted under this notice. Only material submitted in accordance with the above instructions may be forwarded to the NACIQI for its consideration by the deadline to the email address listed in this notice.

FOR FURTHER INFORMATION CONTACT: Carol Griffiths, Executive Director, NACIQI, U.S. Department of Education, 1990 K Street NW., Room 8073, Washington, DC 20006-8129, telephone: (202) 219-7035, fax: (202) 219-7005, or email: Carol.Griffiths@ed.gov.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Lynn B. Mahaffie,
Senior Director, Policy Coordination, Development, and Accreditation Service, delegated the authority to perform the functions and duties of the Assistant Secretary for Postsecondary Education.

[FR Doc. 2014-10495 Filed 5-6-14; 8:45 am]

BILLING CODE 4000-01-P